SECURITIES AND EXCHANGE COMMISSION

[ File No. 500-1]

In the Matter of: Genosys, Inc.: Order of Suspension of Trading

May 5, 2014.

It appears to the Securities and Exchange Commission that there is a lack of current and accurate information concerning the securities of GeNOsys, Inc. (“Genosys”) because Genosys has not submitted the following required periodic filings:

Filing | Due date
Annual report on Form 10-K for period ended Nov. 30, 2011 | February 28, 2012.
Quarterly report on Form 10-Q for period ended Feb. 29, 2012 | April 16, 2012.
Quarterly report on Form 10-Q for period ended May 31, 2012 | July 16, 2012.
Quarterly report on Form 10-Q for period ended August 31, 2012 | October 15, 2012.
Annual report on Form 10-K for period ended Nov. 30, 2012 | February 28, 2013.
Quarterly report on Form 10-Q for period ended Feb. 28, 2013 | April 15, 2013.
Quarterly report on Form 10-Q for period ended May 31, 2013 | July 15, 2013.
Quarterly report on Form 10-Q for period ended August 31, 2013 | October 15, 2013.
Annual report on Form 10-K for period ended Nov. 30, 2013 | February 28, 2014.
Quarterly report on Form 10-Q for period ended Feb. 28, 2013 | April 14, 2014.

The Commission is of the opinion that the public interest and the protection of investors require a suspension of trading in the securities of the above-listed company.

Therefore, it is ordered, pursuant to Section 12(k) of the Securities Exchange Act of 1934, that trading in the securities of the above-listed company is suspended for the period from 9:30 a.m. EDT on Monday, May 5, 2014 through 11:59 p.m. EDT on May 16, 2014.

By the Commission.
Jill M. Peterson,
Assistant Secretary.

[FR Doc. 2014-10553 Filed 5-5-14; 11:15 am]

BILLING CODE 8011-01-P